NUCLEAR REGULATORY COMMISSION

[Docket No. 50-412]

Pennsylvania Power Company, Ohio Edison Company, FirstEnergy Nuclear Operating Company, Beaver Valley Power Station, Unit No. 2 (BVPS-2); Exemption

1.0 Background

The FirstEnergy Nuclear Operating Company (FENOC, et al., the licensee) is the holder of Facility Operating License No. NPF-73 which authorizes operation of BVPS-2. The license provides, among other things, that the facility is subject to all rules, regulations, and orders of the U.S. Nuclear Regulatory Commission (NRC, the Commission) now or hereafter in effect.

The facility consists of a pressurized water reactor located in Shippingport, Pennsylvania.

2.0 Purpose

Title 10 of the Code of Federal Regulations (10 CFR), Part 50, Section 50.71, “Maintenance of Records, Making of Reports,” paragraph (e)(4) states, in part, “Subsequent revisions must be filed annually or 6 months after each refueling outage provided the interval between successive updates does not exceed 24 months. The revisions must reflect all changes up to a maximum of 6 months prior to the date of filing.” The most recent outage for BVPS-2 was completed on October 25, 2000, and the latest revision to the BVPS-2 Final Safety Analysis Report (FSAR) was filed on April 30, 1999. The licensee would be required to submit the next revision to the BVPS-2 FSAR by April 25, 2001, and that revision would be required to reflect all changes up to a maximum of 6 months prior to the date of filing. The need for the proposed exemption is based on taking advantage of the efficiencies of the NRC's recently commissioned electronic information exchange (EIE) process which allows licensees to voluntarily submit documents to the NRC over the internet or on a CD-ROM. The NRC issued Regulatory Issue Summary (RIS) 2001-05, “Guidance on Submitting Documents to the NRC by Electronic Information Exchange or on CD-ROM,” on January 25, 2001 (Agencywide Documents Access and Management System (ADAMS) Accession No. ML003768343).

3.0 Discussion

Section 50.12(a) of 10 CFR, “Specific exemption,” states that * * * “The Commission may, upon application by any interested person or upon its own initiative, grant exemptions from the requirements of the regulations of this part, which are (1) Authorized by law, will not present an undue risk to the public health and safety, and are consistent with the common defense and security. (2) The Commission will not consider granting an exemption unless special circumstances are present.”

Section 50.12(a)(2)(v) of 10 CFR states that special circumstances are present when “The exemption would provide only temporary relief from the applicable regulation and the licensee or applicant has made good faith efforts to comply with the regulation. * * *” The NRC staff finds that the exemption provides temporary relief from the regulatory requirements of 10 CFR 50.71(e)(4) by extending the filing deadline from April 25, 2001, to August 23, 2001 (the requirement to reflect all changes up to a maximum of 6 months prior to the date of filing is revised to reflect all changes through, at least, October 25, 2000). In addition, prior to the issuance of RIS 2001-05 on January 25, 2001 (ADAMS Accession No. ML003768343), the licensee was preparing to issue the numerous hard copies of the FSAR revision in accordance with 10 CFR 50.71(e)(4) and 50.4, “Written Communications.” An additional 120 days reflects the estimated time required for production of an electronic version in lieu of a hardcopy. With the issuance of RIS 2001-05 on January 25, 2001, the NRC informed licensees that they may submit documents to the NRC over the internet by the EIE process or on a CD-ROM if they follow certain procedures. The guidance is applicable to the submission of FSAR revisions. It also waives requirements that multiple copies of documents be submitted to the NRC. The licensee requested this exemption to take advantage of the efficiencies of this new process. Due to the efforts the licensee has indicated it has undertaken with regard to the preparation of the FSAR revision and to the participation in the recently commissioned EIE process, the NRC staff finds that the licensee has made good faith efforts to comply with the regulation.

Therefore, the staff concludes that granting an exemption under the special circumstances of 10 CFR 50.12(a)(2)(v) is appropriate and that the requirement for filing the next revision to the BVPS-2 FSAR may be extended to no later than August 23, 2001. This revision should include all changes through, at least, October 25, 2000.

4.0 Conclusion

Accordingly, the Commission has determined that, pursuant to 10 CFR 50.12(a), the exemption is authorized by law, will not endanger life or property or common defense and security, and is, otherwise, in the public interest. Also, special circumstances are present. Therefore, the Commission hereby grants FENOC an exemption from the requirements of 10 CFR 50.71(e)(4) for BVPS-2.

Pursuant to 10 CFR 51.32, the Commission has determined that the granting of this exemption will not have a significant effect on the quality of the human environment (66 FR 20489).

This exemption is effective upon issuance.

Dated at Rockville, Maryland, this 23rd day of April 2001.
For the Nuclear Regulatory Commission.
John Zwolinski,
Director, Division of Licensing Project Management, Office of Nuclear Reactor Regulation.

[FR Doc. 01-10495 Filed 4-26-01; 8:45 am]

BILLING CODE 7590-01-P